DEPARTMENT OF COMMERCE

Bureau of the Census

[Docket Number 150609512-5512-01]

2020 Census Redistricting Data Program Commencement of Phase 1: The Block Boundary Suggestion Project

AGENCY: Bureau of the Census, Department of Commerce.

ACTION: Notice of Program.

SUMMARY: This notice announces the commencement of Phase 1 of the 2020 Census Redistricting Data Program: The Block Boundary Suggestion Project. This first phase specifically provides States the opportunity to provide the Census Bureau with their suggestions for the 2020 Census tabulation block inventory. Suggestions are made by designating the desirability of linear features for use as 2020 Census tabulation block boundaries. In addition, States have the opportunity to give the Census Bureau legal boundary updates. These actions allow States to construct some of the small area geography they need for legislative redistricting. State participation in Phase 1 of the Redistricting Data Program is voluntary.

DATES: Comments on this notice must be received by July 27, 2015. The deadline for States to notify the Census Bureau that they wish to participate in Phase 1: The Block Boundary Suggestion Project is December 15, 2015.

ADDRESSES: Please address all comments to James Whitehorne, Chief (acting) of the Census Redistricting Data Office, U.S. Census Bureau, Room 2H469, Washington, DC 20233

FOR FURTHER INFORMATION CONTACT: James Whitehorne, Chief (acting) of the Census Redistricting Data Office, U.S. Census Bureau, Room 2H469, Washington, DC 20233, telephone (301) 763-4039.

SUPPLEMENTARY INFORMATION: Under the provisions of Public Law 94-171 (Title 13, United States Code (U.S.C.), Section 141(c)), the Director of the Census Bureau is required to provide the “officers or public bodies with initial responsibility for legislative apportionment or districting of each state . . .” with the opportunity to specify small geographic areas (for example voting districts, wards, and election precincts) for which they wish to receive decennial census population totals for the purpose of reapportionment and redistricting.

By April 1 of the year following the census, the Secretary is required to furnish the State officials or their designees with population counts for counties, cities, census blocks, and State-specified congressional districts, legislative districts, and voting districts.

In accordance with the provisions of Title 13, U.S.C. Section 141(c), and on behalf of the Secretary of Commerce, the Director announces the commencement of Phase 1 of the 2020 Census Redistricting Data Program. The purpose of this notice is to provide further information on the commencement of the 2020 Census Redistricting Data Program, Phase 1—The Block Boundary Suggestion Project. Future Federal Register notices will address the other phases of the 2020 Program.

The 2020 Census Redistricting Data Program was initially announced on July 15, 2014, in the Federal Register (79 FR 41258). The Census Bureau received and responded to three comments regarding the Redistricting Data Program. All three comments were concerned with the effect that the census residence rules have on State legislative redistricting. In response, the Census Bureau explained that, while we work closely with the States to identify new construction; correct political boundaries; and add nonstandard features for use as block boundaries, our data tabulation programs consistently use the residence rules established for census collection and tabulation purposes. The responses indicated that we are currently reviewing our residence rules in preparation for the 2020 Census.

As seen in the 1990, 2000, and 2010 censuses, the 2020 Census Redistricting Data Program is partitioned into several phases. State participation in Phase 1 and 2 of the 2010 Census Redistricting Data Program under 13 U.S.C. 141 is voluntary.

Beginning in late summer of 2015, the Director of the Census Bureau will invite each state to participate in Phase 1, the Block Boundary Suggestion Project through their previously designated liaison. This phase will include a verification step prior to release of the Phase 3 data. For each State responding that they wish to participate by December 15, 2015 the Census Bureau will provide data from the MAF/TIGER System, optional Geographic Update Partnership Software (GUPS) tools, and the procedures necessary for each State to begin work on Phase 1. States are not required to use the GUPS; however, they are required to provide their Phase 1 submission to the Census Bureau electronically in Census Bureau specified formats. During the submission period, the Census Bureau will provide training in the use of the GUPS and assist the states in understanding the procedures necessary for processing files for their submission. The States will have the opportunity to verify the inclusion of their suggested tabulation block boundary features in the Census Bureau's database as part of Phase 1.

The Census Bureau will continue to communicate with each State to ensure that they are well informed about the benefits of working with the Census Bureau towards a successful 2020 Census. In addition, the Redistricting Data Office will continue to work with each State to ensure they are prepared to participate in all phases of the Redistricting Data Program. Every State, regardless of their participation in Phase 1, will receive the official redistricting data sets, as required by Public Law 94-171 in Phase 3 of the Redistricting Data Program.

Dated: June 18, 2015.
John H. Thompson,
Director, Bureau of the Census.

[FR Doc. 2015-15780 Filed 6-25-15; 8:45 am]

BILLING CODE 3510-07-P